DEPARTMENT OF HOMELAND SECURITY

Federal Emergency Management Agency

[Docket ID FEMA-2020-0002; Internal Agency Docket No. FEMA-B-2024]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alaska: City and Borough of Sitka | City and Borough of Sitka, (20-10-0299P) | The Honorable Gary Paxton, Mayor, City and Borough of Sitka, 100 Lincoln Street, Sitka, AK 99835 | Sitka United States Post Office and Court House, 100 Lincoln Street, Sitka, AK 99835 | https://msc.fema.gov/port, al/advanceSearch | Jun. 4, 2020 | 020006
Arizona:
Cochise | City of Sierra Vista, (18-09-2056P) | The Honorable Rick Mueller, Mayor, City of Sierra Vista, 1011 North Coronado Drive, Sierra Vista, AZ 85635 | Community Development Department, 1011 North Coronado Drive, Sierra Vista, AZ 85635 | https://msc.fema.gov/port, al/advanceSearch | Jun. 5, 2020 | 040017
Maricopa | City of Peoria, (20-09-0216P) | The Honorable Cathy Carlat, Mayor, City of Peoria, 8401 West Monroe Street, Peoria, AZ 85345 | City Hall, 8401 West Monroe Street, Peoria, AZ 85345 | https://msc.fema.gov/port, al/advanceSearch | Jul. 10, 2020 | 040050
Maricopa | Unincorporated Areas of Maricopa County, (19-09-1002P) | The Honorable Clint L Hickman, Chairman, Board of Supervisors, Maricopa County, 301 West Jefferson Street, 10th Floor, Phoenix, AZ 85003 | Flood Control District of Maricopa County, 2801 West Durango Street, Phoenix, AZ 85009 | https://msc.fema.gov/port, al/advanceSearch | Jul. 10, 2020 | 040037
California:
Riverside | City of Indio, (19-09-1450P) | The Honorable Glenn A. Miller, Mayor, City of Indio, City Hall, 100 Civic Center Mall, Indio, CA 92201 | Engineering Services Division, 100 Civic Center Mall, Indio, CA 92202 | https://msc.fema.gov/port, al/advanceSearch | Jun. 26, 2020 | 060255
Riverside | Unincorporated Areas of Riverside County, (19-09-1450P) | The Honorable V Manuel Perez, Chairman, Board of Supervisors, Riverside County, 4080 Lemon Street, 5th Floor, Riverside, CA 92501 | Riverside County Flood Control and Water Conservation District, 1995 Market Street, Riverside, CA 92501 | https://msc.fema.gov/port, al/advanceSearch | Jun. 26, 2020 | 060245
Ventura | City of Simi Valley, (19-09-1889P) | The Honorable Keith L Mashburn, Mayor, City of Simi Valley, 2929 Tapo Canyon Road, Simi Valley, CA 93063 | City Hall, 2929 Tapo Canyon Road, Simi Valley, CA 93063 | https://msc.fema.gov/port, al/advanceSearch | Jul. 1, 2020 | 060421
Illinois:
Will | City of Naperville, (20-05-0194P) | The Honorable Steve Chirico, Mayor, City of Naperville, City Hall, 400 South Eagle Street, Naperville, IL 60540 | City Hall, 400 South Eagle Street, Naperville, IL 60540 | https://msc.fema.gov/port, al/advanceSearch | Jul. 6, 2020 | 170213
Williamson | City of Marion, (20-05-1350P) | The Honorable Mike Absher, Mayor, City of Marion, 1102 Tower Square Plaza, Marion, IL 62959 | City Hall, 1102 Tower Square Plaza, Marion, IL 62959 | https://msc.fema.gov/port, al/advanceSearch | Jul. 10, 2020 | 170719
Michigan: Oakland | Township of Bloomfield, (19-05-2978P) | Mr. Leo Savoie, Township of Bloomfield Supervisor, P.O. Box 489, Bloomfield Hills, MI 48303 | Bloomfield Township Clerk's Office, 4200 Telegraph Road, Bloomfield Hills, MI 48303 | https://msc.fema.gov/port, al/advanceSearch | Jun. 29, 2020 | 260169
Nevada: Clark | Unincorporated Areas of Clark County, (19-09-1371P) | The Honorable Marilyn Kirkpatrick, Chair, Board of Commissioners, Clark County, 500 South Grand Central Parkway, 6th Floor, Las Vegas, NV 89106 | Clark County, Office of the Director of Public Works, 500 South Grand Central Parkway, 2nd Floor, Las Vegas, NV 89155 | https://msc.fema.gov/port, al/advanceSearch | Jul. 3, 2020 | 320003
New York:
Nassau | Village of Kings Point, (19-02-0330P) | The Honorable Michael C. Kalnick, Mayor, Village of Kings Point, Village Hall, 32 Stepping Stone Lane, Kings Point, NY 11024 | Village Hall, 32 Stepping Stone Lane, Kings Point, NY 11024 | https://msc.fema.gov/port, al/advanceSearch | Aug. 5, 2020 | 360473
Westchester | City of New Rochelle, (19-02-1191P) | The Honorable Noam Bramson, Mayor, City of New Rochelle, 515 North Avenue, New Rochelle, NY 10801 | City Hall/Department of Public Works, 515 North Avenue, New Rochelle, NY 10801 | https://msc.fema.gov/port, al/advanceSearch | Sep. 4, 2020 | 360922

[FR Doc. 2020-08460 Filed 4-21-20; 8:45 am]

BILLING CODE 9110-12-P